ENVIRONMENTAL PROTECTION AGENCY

40 CFR Part 52

[A-1-FRL-9310-9]

Prevention of Significant Deterioration (PSD) Program; Massachusetts; Announcing Delegation Agreement Between EPA and Massachusetts Department of Environmental Protection

AGENCY: Environmental Protection Agency (EPA).

ACTION: Announcement of delegation agreement.

SUMMARY: This document announces that effective April 11, 2011, EPA Region 1 has signed an agreement with the Massachusetts Department of Environmental Protection (MassDEP) delegating authority to implement and enforce the Federal Prevention of Significant Deterioration (PSD) program to the MassDEP. Therefore, effective that date, MassDEP is the implementing authority for the PSD program in Massachusetts. This document explains the consequences of this change for owners and operators of sources that have PSD permits or that will need such permits in the future.

DATES: Effective Date: EPA's PSD program delegation agreement with the MassDEP is effective on April 11, 2011.

ADDRESSES: The Delegation Agreement is available either electronically through http://www.epa.gov/NE/communities/nseemissions.html or in hard copy at the Office of Ecosystem Protection, U.S. Environmental Protection Agency, EPA New England Regional Office, Office of Ecosystem Protection, Air Quality Planning Unit, 5 Post Office Square—Suite 100, Boston, MA. EPA requests that if at all possible, you contact the contact listed in the FOR FURTHER INFORMATION CONTACT section to schedule your inspection. The Regional Office's official hours of business are Monday through Friday, 8:30 to 4:30, excluding legal holidays.

Copies of the Delegation Agreement are also available for public inspection during normal business hours, by appointment at the Division of Air Quality Control, Department of Environmental Protection, One Winter Street, 8th Floor, Boston, MA.

FOR FURTHER INFORMATION CONTACT: Brendan McCahill, EPA Region 1, (617) 918-1652, or send an e-mail to mccahill.brendan@epa.gov.

SUPPLEMENTARY INFORMATION: I. Background: On June 30, 1982 EPA delegated authority to implement the Federal PSD program in 40 CFR 52.21 to the MassDEP. On December 31, 2002, EPA published in the Federal Register revisions to the Federal PSD regulations (67 FR 80186). A final rule revising the Federal portions of implementation plans in 40 CFR part 52 to include the revisions to the Federal PSD regulations was published in the Federal Register on March 10, 2003. Both of these actions were effective on March 3, 2003.

On February 27, 2003, the MassDEP notified the Regional Administrator of EPA Region 1 that the MassDEP would not accept authority for the implementation of the amended PSD program and was ending its June 30, 1982, agreement with EPA to assume responsibility for implementing the Federal PSD regulations. The letter from the MassDEP explained that the MassDEP would no longer implement the Federal PSD program as of March 3, 2003. Consequently, as of March 3, 2003, sources of air pollution located in Massachusetts and subject to the Federal PSD program were required to apply for and receive a PSD permit from EPA New England before beginning actual construction.

On June 17, 2003, EPA published a Federal Register announcing the MassDEP's decision to end its delegation agreement with the EPA and explaining the consequences of this decision for owners and operators of sources that have PSD permits or that will need such permits in the future (68 FR 35881).

On April 4, 2011, the Commissioner of the MassDEP signed a delegation agreement under which EPA would again delegate responsibility for conducting source review under the Federal PSD regulations to the MassDEP.

II. Final Action: On April 11, 2011, the Regional Administrator of EPA Region 1 signed the delegation agreement, which is entitled “Agreement for Delegation of the Federal Prevention of Significant Deterioration Program by the United States Environmental Protection Agency, Region 1 to the Massachusetts Department of Environmental Protection,” and which sets forth the terms and conditions according to which the MassDEP agrees to implement and enforce the Federal PSD program. The Regional Administrator's signature on the delegation agreement grants full delegation of the Federal PSD regulations at 40 CFR 52.21 to the MassDEP pursuant to the terms and conditions of the delegation agreement, 40 CFR 52.21(u), and the requirements of the Clean Air Act.

Effective on April 11, 2011, all permit applications for new or modified major sources and all other information pursuant to 40 CFR 52.21 for sources in the Commonwealth of Massachusetts, and all inquiries regarding the implementation of 40 CFR 52.21 in the Commonwealth, should be sent directly to the MassDEP at the following address: Massachusetts Department of Environmental Protection, One Winter Street, Boston, MA, 02108. In addition, the MassDEP will assume responsibility to administer and enforce all PSD permits issued in Massachusetts, including those PSD permits already issued by EPA. EPA retains authority to issue and administer permits in certain limited areas of federal jurisdiction defined in the delegation agreement, and also retains authority to issue a PSD permit to Pioneer Valley Energy Center (PVEC) in Westfield, Massachusetts. Finally, EPA retains certain oversight roles regarding federal requirements, which are set forth in detail in the delegation agreement.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: May 13, 2011.
Ira W. Leighton,
Acting Regional Administrator, EPA New England.

[FR Doc. 2011-12950 Filed 5-27-11; 8:45 am]

BILLING CODE 6560-50-P